DEPARTMENT OF ENERGY

Federal Energy Regulatory Commission

Combined Notice of Filings #1

Take notice that the Commission received the following electric corporate filings:

Docket Numbers: EC17-38-000.

Applicants: Helix Generation, LLC, TC Ravenswood, LLC, TC Ironwood LLC, TransCanada Maine Wind Development Inc., Ocean State Power LLC, TransCanada Power Marketing Ltd.

Description: Joint Application of Helix Generation, LLC, et al. for Approval Under Section 203 of the FPA.

Filed Date: 11/21/16.

Accession Number: 20161121-5263.

Comments Due: 5 p.m. ET 12/12/16.

Take notice that the Commission received the following electric rate filings:

Docket Numbers: ER10-2487-003; ER15-2380-001.

Applicants: Pacific Summit Energy LLC, Willey Battery Utility, LLC.

Description: Notice of Change in Status of Pacific Summit Energy LLC, et al.

Filed Date: 11/21/16.

Accession Number: 20161121-5203.

Comments Due: 5 p.m. ET 12/12/16.

Docket Numbers: ER16-1804-001.

Applicants: Deepwater Block Island Wind, LLC.

Description: Notice of Non-Material Change in Status of Deepwater Block Island Wind, LLC.

Filed Date: 11/21/16.

Accession Number: 20161121-5199.

Comments Due: 5 p.m. ET 12/12/16.

Docket Numbers: ER17-212-001.

Applicants: Upper Michigan Energy Resources Corporation.

Description: Tariff Amendment: Executed UMERC to Crystal Falls FERC Rate Schedule No 4 to be effective 1/1/2017.

Filed Date: 11/21/16.

Accession Number: 20161121-5195.

Comments Due: 5 p.m. ET 12/12/16.

Docket Numbers: ER17-388-000.

Applicants: SunZia Transmission, LLC.

Description: Report on the Open Solicitation and Selection Process for Anchor Customers of SunZia Transmission, LLC.

Filed Date: 11/18/16.

Accession Number: 20161118-5133.

Comments Due: 5 p.m. ET 12/9/16.

Docket Numbers: ER17-401-000.

Applicants: Pacific Summit Energy LLC.

Description: Compliance filing: Notice of Change in Status and Revised MBR Tariff to be effective 1/20/2017.

Filed Date: 11/21/16.

Accession Number: 20161121-5193.

Comments Due: 5 p.m. ET 12/12/16.

Docket Numbers: ER17-402-000.

Applicants: Willey Battery Utility, LLC.

Description: Compliance filing: Notice of Change in Status and Revised MBR Tariff to be effective 1/20/2017.

Filed Date: 11/21/16.

Accession Number: 20161121-5194.

Comments Due: 5 p.m. ET 12/12/16.

Docket Numbers: ER17-403-000.

Applicants: Niagara Mohawk Power Corporation.

Description: Notice of Cancellation of Interconnection Agreement, Rate Schedule No. 200 of Niagara Mohawk Power Corporation.

Filed Date: 11/21/16.

Accession Number: 20161121-5202.

Comments Due: 5 p.m. ET 12/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2016.
Kimberly D. Bose,
Secretary.

[FR Doc. 2016-28762 Filed 11-29-16; 8:45 am]

BILLING CODE 6717-01-P